DEPARTMENT OF JUSTICE

Parole Commission

Sunshine Act Meeting

Public Announcement Pursuant to the Government in the Sunshine Act (Public Law 94-409) [5 U.S.C. Section 552b]

AGENCY HOLDING MEETING: Department of Justice, United States Parole Commission.

TIME AND DATE: 10:30 a.m., Tuesday, March 28, 2000.

PLACE: U.S. Parole Commission, 5550 Friendship Boulevard, 4th Floor, Chevy Chase, Maryland 20815.

STATUS: Open.

MATTERS TO BE CONSIDERED: The following matters have been placed on the agenda for the open Parole Commission meeting:

1. Approval of minutes of previous Commission meeting.

2. Reports from the Chairman, Commissioners, Legal, Chief of Staff, Case Operations, and Administrative Sections.

3. Proposed/Interim Rules for D.C. Code Offenders.

AGENCY CONTACT: Sam Robertson, Case Operations, United States Parole Commission, (301) 492-5962.

Dated: March 21, 2000.
Michael A. Stover,
General Counsel, U.S. Parole Commission.

[FR Doc. 00-7408 Filed 3-22-00; 10:22 am]

BILLING CODE 4410-31-M